SECURITIES AND EXCHANGE COMMISSION

[Release No. 34-81204; File No. SR-MRX-2017-02]

Self-Regulatory Organizations; Nasdaq MRX, LLC; Order Approving Proposed Rule Change To Amend Various Rules in Connection With a System Migration to Nasdaq INET Technology

July 25, 2017.

I. Introduction

On May 17, 2017, the Nasdaq MRX, LLC (“MRX” or “Exchange”) filed with the Securities and Exchange Commission (“Commission”), pursuant to Section 19(b)(1) of the Securities Exchange Act of 1934 (“Act”),¹ and Rule 19b-4 thereunder,² a proposed rule change to amend various Exchange rules in connection with a system migration to Nasdaq, Inc. (“Nasdaq”) supported technology. The proposed rule change was published for comment in the Federal Register on June 5, 2017.³ On July 14, 2017, the Commission designated a longer period for Commission action on the proposed rule change, until September 3, 2017.⁴ The Commission received no comment letters on the proposed rule change. This order approves the proposed rule change.

¹ 15 U.S.C. 78s(b)(1).

² 17 CFR 240.19b-4.

³ See Securities Exchange Act Release No. 80815 (May 30, 2017), 82 FR 25827 (“Notice”).

⁴ See Securities Exchange Act Release No. 81151 (July 14, 2017, 82 FR 33527 (July 20, 2017).

II. Discussion and Commission Findings

After careful review, the Commission finds that the proposed rule change is consistent with the requirements of the Act and the rules and regulations thereunder applicable to a national securities exchange.⁵ In particular, the Commission finds that the proposed rule change is consistent with Section 6(b)(5) of the Act,⁶ which requires, among other things, that the rules of a national securities exchange be designed to prevent fraudulent and manipulative acts and practices, to promote just and equitable principles of trade, to foster cooperation and coordination with persons engaged in facilitating transactions in securities, to remove impediments to and perfect the mechanism of a free and open market and a national market system, and, in general, to protect investors and the public interest. As noted above, the Commission received no comment letters regarding the proposed rule change.

⁵ In approving this proposed rule change, the Commission has considered the proposed rule's impact on efficiency, competition, and capital formation. See 15 U.S.C. 78c(f).

⁶ 15 U.S.C. 78f(b)(5).

The Exchange proposes to amend various Exchange rules to reflect the MRX system migration to a Nasdaq INET technology.⁷ In connection this system migration, as discussed below, the Exchange intends to adopt certain trading functionality currently utilized on Nasdaq Exchanges.⁸

⁷ INET is utilized across Nasdaq's markets, including The NASDAQ Options Market LLC (“NOM”), NASDAQ PHLX LLC (“Phlx”), and NASDAQ BX, Inc. (collectively, the “Nasdaq Exchanges”). See Notice, supra note 3, at 25827. The Commission also recently approved Nasdaq ISE, LLC's (formerly International Securities Exchange, LLC) (“ISE”) and Nasdaq GEMX, LLC's (formerly ISE Gemini, LLC) migrations to INET. See Securities Exchange Act Release Nos. 80225 (March 13, 2017), 82 FR 14243 (March 17, 2017) (SR-ISE-2017-02); 80432 (April 11, 2017), 82 FR 18191 (April 17, 2017) (SR-ISE-2017-03); 80011 (February 10, 2017), 82 FR 10927 (February 16, 2017) (SR-ISEGemini-2016-17); 80014 (February 10, 2017), 82 FR 10952 (February 16, 2017) (SR-ISEGemini-2016-18).

⁸ See Notice, supra note 3, at 25827. The Exchange anticipates that it will begin implementation of the proposed rule changes in the third quarter of 2017. See id. According to the Exchange, the system migration will be on a symbol by symbol basis. The Exchange will issue an alert to members in the form of an Options Trader Alert to provide notification of the symbols that will migrate and the relevant dates. See id. The Exchange has also separately filed a companion proposed rule change to amend the Exchange's opening process in connection with the system migration to INET technology. See Securities Exchange Act Release No. 80937 (June 15, 2017), 82 FR 28113 (June 20, 2017) (SR-MRX-2017-01). The Exchange proposes to replace its current opening process at Rule 701 with Phlx's opening process. See Phlx Rule 1017.

A. Trading Halts

1. Cancellation of Quotes

The Exchange proposes to amend MRX Rule 702 (Trading Halts) to conform the treatment of orders and quotes on the Exchange to Phlx Rule 1047(f). Specifically, the Exchange proposes to amend Rule 702(a)(2) to provide that during a halt the Exchange will maintain existing orders on the book but not existing quotes. Pursuant to the revision, during the halt, the Exchange will accept orders and quotes and, for such orders and quotes, process cancels and modifications. Currently, the Exchange maintains existing orders and quotes during a trading halt. With respect to cancels and modifications during a trading halt, the Exchange represents that the current process on MRX will not change under the proposed rule change.⁹

⁹ See Notice, supra note 3, at 25827.

The Exchange represents that its proposal to maintain existing orders on the book but not existing quotes during a halt would provide market participants with clarity as to the manner in which interests will be handled by the system.¹⁰ The Exchange believes that, during a trading halt, the market may move and create risk to market participants with respect to resting interests.¹¹

¹⁰ See Notice, supra note 3, at 25834.

¹¹ See id.

The Commission believes that that cancelling existing quotes during a trading halt would provide market participants the opportunity to update potentially stale quotes. Further, the Commission notes that the Exchange will process cancels and modifications for orders as well as quotes received during a halt. Finally, the Commission further notes that the proposed treatment of quotes during a halt is consistent with existing Phlx Rule 1047(f).

2. Limit Up-Limit Down

The Exchange proposes to replace existing MRX Rule 703A (Trading During Limit Up-Limit Down States in Underlying Securities) with proposed MRX Rule 702(d).¹² Specifically, proposed MRX Rule 702(d) will provide that during a Limit State and Straddle State in the underlying NMS stock ¹³ the Exchange will not open an affected option.¹⁴ However, provided the Exchange has opened an affected option for trading, the Exchange will: (i) Reject Market Orders ¹⁵ and notify members of the reason for such rejection; ¹⁶ (ii) continue to process Market Orders exposed at the NBBO, pursuant to Supplementary Material .02 to ISE Rule 1901, pending in the system, and cancel such Market Order if at the end of the exposure period the affected underlying is in a Limit or Straddle State; ¹⁷ and (iii) elect Stop Orders if the condition as provided in MRX Rule 715(d) is met, and, because such orders become Market Orders, cancel them back and notify members of the reason for such rejection.¹⁸ Moreover, when the security underlying an option class is in a Limit State or Straddle State, the Exchange will suspend the maximum quotation spread requirements for market maker quotes in MRX Rule 803(b)(4) and the continuous quotation requirements in MRX Rule 804(e).¹⁹ Additionally, the Exchange will not consider the time periods associated with Limit States and Straddle States when evaluating whether a market maker has complied with its continuous quotation requirements in MRX Rule 804(e).²⁰

¹² The Exchange represents that proposed MRX Rule 702(d) is similar to Phlx Rule 1047(d). See Notice, supra note 3, at 25828.

¹³ Proposed MRX Rule 702(d) states that capitalized terms used in Rule 702(d) will have the same meaning as provided for in the Plan to Address Extraordinary Market Volatility Pursuant to Rule 608 of Regulation NMS, as it may be amended from time to time.

¹⁴ See proposed MRX Rule 702(d)(1). The Exchange states that its rules do not currently address the opening rotation in the event that the underlying NMS stock is open but has entered into a Limit or Straddle State. See Notice, supra note 3, at 25828.

¹⁵ For the definition of the term “Market Orders,” see MRX Rule 715(a).

¹⁶ See proposed MRX Rule 702(d)(2).

¹⁷ See proposed MRX Rule 702(d)(2). If the affected underlying is no longer in a Limit or Straddle State after the exposure period, the Market Order will be processed with normal handling. See id. The Exchange currently cancels Market Orders pending in the system upon initiation of a Limit or Straddle State. See Notice, supra note 3, at 25828.

¹⁸ See proposed MRX Rule 702(d)(3). MRX currently does not elect Stop Orders that are pending in the system during a Limit or Straddle State. Under the proposal, the Exchange will elect Stop Orders that are pending in the system during a Limit or Straddle State, if conditions for such election are met; however, because such orders become Market Orders, they will be cancelled back to the member with a reason for such rejection. See Notice, supra note 3, at 25828.

¹⁹ See proposed MRX Rule 702(d)(4).

²⁰ See id.

The Commission believes that the proposed Rule 702(d) would provide certainty to market participants regarding the manner in which Limit or Straddle States would impact the opening process as well as Market Orders and Stop Orders. The Commission believes that the rejection of Market Orders (including elected Stop Orders) is reasonably designed to potentially prevent executions of un-priced orders during times of significant volatility.²¹ The Commission also notes that processing rather than cancelling existing Market Orders is reasonable because these Market Orders are only pending in the system if they are exposed at the NBBO pursuant to Supplementary Material .02 to ISE Rule 1901 and would, in any case, be cancelled if at the end of the exposure period the affected underlying is still in a Limit or Straddle State.²² Further, the Commission believes that it is reasonable to permit the election of Stop Orders that are pending in the system during a Limit or Straddle State, since, upon election, the orders would be cancelled back to the members.²³ Lastly, the Commission notes that proposed MRX Rule 702(d)(4) is substantively identical to existing MRX Rule 703A(c), which is being deleted.

²¹ See Notice, supra note 3, at 25834.

²² See Notice, supra note 3, at 25835.

²³ See id.

3. Auction Handling During a Trading Halt

The Exchange proposes to amend certain rules to account for the impact of a trading halt on the Exchange's auction mechanisms. First, the Exchange proposes to amend MRX Rule 723 (Price Improvement Mechanism for Crossing Transactions) regarding the manner in which a trading halt will impact an order entered into the Price Improvement Mechanism (“PIM”). Today, if a trading halt is initiated after an order is entered into the PIM, the Exchange terminates such auction and eligible interest is executed.²⁴ The Exchange proposes to amend the current process by terminating the auction and not executing eligible interest when a trading halt occurs.²⁵ Similarly, the Exchange also proposes to amend to MRX Rule 716 (Block Trades) to state that, if a trading halt is initiated after an order is entered into the Block Order Mechanism, Facilitation Mechanism, or Solicited Order Mechanism, the Exchange will automatically terminate such auction without execution.²⁶

²⁴ See Notice, supra note 3, at 25829.

²⁵ See proposed MRX Rule 723(d)(5).

²⁶ See proposed subsections (c)(3), (d)(3)(iv), and (e)(2)(iv) of MRX Rule 716. The Exchange represents that this proposed amendment represents the current process on MRX and is generally consistent with Phlx Rule 1047(c). See Notice, supra note 3, at 25829.

The Exchange believes that its proposal to terminate the PIM auction, Block Order Mechanism, Facilitation Mechanism, and Solicited Order Mechanism and not execute eligible interest when a trading halt occurs will provide certainty to participants regarding how their interest will be handled.²⁷ The Exchange believes that, during a trading halt, the market may move and create risk to market participants with respect to resting interest.²⁸ The Commission believes that the proposed rule is consistent with the Act and provides transparency and clarity regarding the handling of these orders during a trading halt.

²⁷ See Notice, supra note 3, at 25835.

²⁸ See id.

B. Market Order Spread Protection

The Exchange proposes to amend MRX Rule 711 (Acceptance of Quotes and Orders) by adopting a new mandatory risk protection entitled Market Order Spread Protection which will apply to Market Orders.²⁹ Pursuant to proposed MRX Rule 711(c), if the NBBO is wider than a preset threshold at the time a Market Order is received by the Exchange, the Exchange will reject the order. The Exchange will notify members of the threshold with a notice, and, thereafter, will notify members of any subsequent changes to the threshold.³⁰ The Exchange represents that the Market Order Spread Protection will be the same for all options traded on the Exchange and is applicable to all members that submit Market Orders.³¹

²⁹ The Exchange states that this mandatory feature is currently offered on NOM to protect Market Orders from being executed in very wide markets. See Notice, supra note 3, at 25829. See also NOM Rules at Chapter VI, Section 6(c).

³⁰ See Notice, supra note 3, at 25829. The Exchange proposes to initially set the threshold to $5, similar to the threshold set on NOM. See id. The Exchange states that NOM set the differential at $5 to match the maximum bid/ask differential permitted for quotes on that exchange. See id. MRX also uses a similar $5 differential. See id.

³¹ See Notice, supra note 3, at 25829.

The Exchange believes, and the Commission concurs, that the proposed Market Order Spread Protection would help mitigate risks associated with trading errors and help reduce the number of executions at dislocated prices.³² The Commission also notes that the protection is similar to a mandatory feature currently offered on NOM.³³

³² See Notice, supra note 3, at 25835.

³³ See NOM Rules at Chapter VI, Section 6(c).

C. Acceptable Trade Range

Today, MRX offers a Price Level Protection that places a limit on the number of price levels at which an incoming order or quote to sell (buy) would be executed automatically when there are no bids (offers) from other exchanges at any price for the options series.³⁴ The Exchange proposes to replace the current Price Level Protection with Phlx's Acceptable Trade Range.³⁵ The Exchange states that the proposed Acceptable Trade Range is a mechanism designed to prevent the system from experiencing dramatic price swings by preventing the market from moving beyond set thresholds.³⁶ The system will calculate an Acceptable Trade Range to limit the range of prices at which an order or quote will be allowed to execute.³⁷ Upon receipt of a new order or quote, the Acceptable Trade Range is calculated by taking the reference price, plus or minus a value to be determined by the Exchange, where the reference price is the National Best Bid (“NBB”) for sell orders/quotes and the National Best Offer (“NBO”) for buy orders/quotes. Accordingly, the Acceptable Trade Range is: the reference price − (x) for sell orders/quotes; and the reference price + (x) for buy orders.³⁸ If an order or quote reaches the outer limit of the Acceptable Trade Range (the “Threshold Price”) without being fully executed, then any unexecuted balance will be cancelled.³⁹ The Acceptable Trade Range will not be available for All-or-None Orders.⁴⁰

³⁴ See Notice, supra note 3, at 25829; MRX Rule 714(b)(1).

³⁵ See Phlx Rule 1080(p). Unlike Phlx, MRX does not offer a general continuous re-pricing mechanism. See id. Accordingly, the Exchange states that the proposed Acceptable Trade Range will not include the posting period functionality available today on Phlx. See Notice, supra note 3, at 25830, n.15. The Exchange will not post interest that exceeds the outer limit of the Acceptable Trade Range; rather the interest will be cancelled. See Notice, supra note 3, at 25830. Orders that do not exceed the outer limit of the Acceptable Trade Range will post to the order book and will reside on the order book at such price until they are either executed in full or cancelled by the member. See id.

³⁶ See Notice, supra note 3, at 25830.

³⁷ See proposed MRX Rule 714(b)(1)(i).

³⁸ The Exchange states that the Acceptable Trade Range settings are tied to the option premium. See Notice, supra note 3, at 25830, n.16. A table consisting of several steps based on the premium of an option will be displayed on the Exchange Web site and used to determine how far the market for a given option will be allowed to move. See Notice, supra note 3, at 25831. Updates to the table would be announced via an Exchange alert, generally the prior day. See id.

³⁹ See proposed MRX Rule 714(b)(1)(ii).

⁴⁰ See proposed MRX Rule 714(b)(1)(ii). Today, MRX's Price Level Protection rule is also not available for All-or-None Orders. See Notice, supra note 3, at 25830, n.17.

The Exchange represents that it will set the Acceptable Trade Range at levels to ensure that it is triggered infrequently.⁴¹ While the Acceptable Trade Range settings will be tied to the option premium, other factors will be considered when determining the exact settings.⁴² For example, the Exchange states that acceptable ranges may change if market-wide volatility is high or if overall market liquidity is low based on historical trends.⁴³ To ensure a well-functioning market, the Exchange believes that different market conditions may require adjustments to the threshold amounts from time to time.⁴⁴ Further, while the Acceptable Trade Range settings will generally be the same across all options traded on the Exchange, MRX proposes to set them separately based on characteristics of the underlying security.⁴⁵ For example, the Exchange has generally observed that options subject to the Penny Pilot program quote with tighter spreads than options not subject to the Penny Pilot. Accordingly, the Exchange will set Acceptable Trade Ranges for three categories of options: (1) Penny Pilot Options trading in one cent increments for options trading at less than $3.00 and increments of five cents for options trading at $3.00 or more; (2) Penny Pilot Options trading in one-cent increments for all prices; and (3) Non-Penny Pilot Options.⁴⁶

⁴¹ See Notice, supra note 3, at 25830.

⁴² See Notice, supra note 3, at 25831.

⁴³ See id.

⁴⁴ See id.

⁴⁵ See id.

⁴⁶ See proposed MRX Rule 714(b)(1)(iii).

The Exchange represents that the Acceptable Trade Range should prevent the system from experiencing dramatic price swings by preventing the market from moving beyond set thresholds.⁴⁷ The Commission believes that the Acceptable Trade Range is reasonably designed to prevent executions of orders and quotes at prices that are significantly worse than the NBBO at the time of an order's submission and may reduce the potential negative impacts of unanticipated volatility in individual options. Further, the Commission notes that the proposed Acceptable Trade Range is similar to an existing mechanism on Phlx.⁴⁸

⁴⁷ See Notice, supra note 3, at 25835.

⁴⁸ See Notice, supra note 3, at 25829; Phlx Rule 1080(p).

D. PMM Order Handling and Opening Obligations

The Exchange proposes to eliminate the Primary Market Maker (“PMM”) order handling and opening obligations in MRX Rule 803(c).⁴⁹ As described above, with the migration of MRX to the Nasdaq INET architecture, the Exchange is adopting the Acceptable Trade Range and opening rotation functionality currently offered on NOM and Phlx, which do not contain similar requirements for the PMMs as in MRX Rule 803(c).

⁴⁹ MRX Rule 803(c) provides that, in addition to the obligations contained in Rule 803 for market makers generally, for options classes to which a market maker is the appointed PMM, the PMM shall have the responsibility to: (1) As soon as practical, address Priority Customer Orders that are not automatically executed pursuant to Rule 714(b)(1) in a manner consistent with its obligations under Rule 803(b) by either (i) executing all or a portion of the order at a price that at least matches the NBBO and that improves upon the Exchange's best bid (in the case of a sell order) or the Exchange's best offer (in the case of a buy order); or (ii) releasing all or a portion of the order for execution against bids and offers on the Exchange; and (2) initiate trading in each series pursuant to Rule 701 (Trading Rotations).

The Exchange represents that PMMs' current obligations are no longer necessary due to the introduction of the Acceptable Trade Range and proposed changes to the Exchange's opening process.⁵⁰ The Exchange states that its proposal to conform the Exchange's opening process to Phlx Rule 1017 will result in an opening initiated by the receipt of an appropriate number of valid width quotes by the PMM or Competitive Market Maker, instead of an opening process initiated by a PMM.⁵¹ Similarly, the Exchange believes the proposed Acceptable Trade Range functionality will continue to provide order protection to members without imposing any PMM obligations.⁵² The Exchange further represents that NOM and Phlx do not impose similar PMM order handling and opening obligations.⁵³ Accordingly, the Commission believes that these changes are consistent with the Act.

⁵⁰ See Notice, supra note 3, at 25832. See also supra note 8.

⁵¹ See Notice, supra note 3, at 25831-32. See also supra note 8.

⁵² See Notice, supra note 3, at 25832. The Exchange states that Phlx does not currently have similar roles for a Specialist on its market. See id.

⁵³ See Notice, supra note 3, at 25831.

E. Back-Up PMM

The Exchange proposes to amend Supplementary Material .03 to MRX Rule 803 to eliminate Back-Up PMMs. Today, any MRX member that is approved to act in the capacity of a PMM or an “Alternative Primary Market Maker” may voluntarily act as a Back-Up PMM in an options series in which it is quoting as a Competitive Market Maker (“CMM”).⁵⁴ With the technology migration, the Exchange believes that a Back-Up PMM is no longer necessary because under INET the Exchange will not utilize the order handling obligations present on the Exchange today.⁵⁵ The Exchange further represents that the proposed new opening process obviates the importance of such a role because it would no longer rely on a market maker to initiate the opening process.⁵⁶ Accordingly, the Commission believes that these changes are consistent with the Act.

⁵⁴ See MRX Rule 803, Supplementary Material .03.

⁵⁵ See Notice, supra note 3, at 25832.

⁵⁶ See Notice, supra note 3, at 25832. See also supra note 8.

F. Market Maker Speed Bump

The Exchange proposes to amend MRX Rule 804 (Market Maker Quotations) to establish default parameters for certain risk functionality. The Exchange currently offers a risk protection mechanism for market maker quotes that removes a member's quotes in an options class if a specified number of curtailment events occur during a set time period (“Market Maker Speed Bump”).⁵⁷ In addition, the Exchange offers a market-wide risk protection that removes a market maker's quotes across all classes if a number of curtailment events occur (“Market-Wide Speed Bump”).⁵⁸ MRX Rule 804(g) currently requires that market makers set curtailment parameters for both the Market Maker Speed Bump and the Market-Wide Speed Bump. Today, if a market maker does not set these parameters, for each Market Maker Speed Bump and the Market-Wide Speed Bump, the system rejects their quotes.⁵⁹ With the technology migration, the Exchange proposes to provide default curtailment parameters, which will be determined by the Exchange and announced to members.⁶⁰ The Commission believes that this change is consistent with the Act and notes that, although the Exchange will establish default curtailment settings, market makers will have discretion to set different curtailment settings appropriate for their trading and risk tolerance.

⁵⁷ See MRX Rule 804(g)(1).

⁵⁸ See MRX Rule 804(g)(2).

⁵⁹ See Notice, supra note 3, at 25832.

⁶⁰ See id.

G. Anti-Internalization

The Exchange proposes to amend Supplementary Material .03 to MRX Rule 804 (Market Maker Quotations) to adopt an anti-internalization rule. Today, MRX's functionality prevents Immediate-or-Cancel orders entered by a market maker from trading with the market maker's own quote.⁶¹ The Exchange proposes to replace this self-trade protection with anti-internalization functionality currently offered on Phlx.⁶² The Exchange proposes to provide that quotes and orders entered by market makers using the same member identifier will not be executed against quotes and orders entered on the opposite side of the market by the same market maker using the same member identifier. In such a case, the system will cancel the resting quote or order back to the entering party prior to execution. The proposed anti-internalization functionality will not apply in any auction. The Exchange states that this proposed functionality does not modify the duty of best execution owed to public customer orders.⁶³

⁶¹ See id.

⁶² See Phlx Rule 1080(p)(2).

⁶³ See Notice, supra note 3, at 25833.

The Exchange represents that the proposal is designed to assist market makers in reducing trading costs from unwanted executions potentially resulting from the interaction of executable interest from the same firm performing the same market making function.⁶⁴ The Commission believes that the proposed rule is reasonably designed to prevent the unwanted execution of quotes and orders entered by market makers using the same member identifier.

⁶⁴ See Notice, supra note 3, at 25833, n.33.

H. Minimum Execution Quantity Orders

The Exchange proposes to amend MRX Rule 715 (Types of Orders) to remove minimum quantity orders in subpart (q).⁶⁵ The Exchange states that members have not adopted this feature, and therefore proposes to remove this order type.⁶⁶ Furthermore, the Exchange proposes to remove two references to minimum quantity orders in Supplementary Material .02 to MRX Rule 713 and in Supplementary Material .04 to MRX Rule 717.

⁶⁵ A Minimum Quantity Order is an order that is initially available for partial execution only for a specified number of contracts or greater. A member may specify whether any subsequent executions of the order must also be for the specified number of contracts or greater, or if the balance may be executed as a regular order. If all executions are to be for the specified number of contracts or greater and the balance of the order after one or more partial execution(s) is less than the minimum, such balance is treated as all-or-none. See MRX Rule 715(q).

⁶⁶ See Notice, supra note 3, at 25833.

The Exchange states that removing the minimum quantity order type would simplify functionality available on the Exchange and reduce the complexity of its order types.⁶⁷ The Exchange further represents that members have not adopted this feature.⁶⁸ Accordingly, the Commission believes it is appropriate for the Exchange to remove references to the minimum quantity order type.

⁶⁷ See Notice, supra note 3, at 25836.

⁶⁸ See Notice, supra note 3, at 25833.

I. Cancel and Replace Orders

The Exchange proposes to amend Supplementary Material .02 to MRX Rule 715 (Types of Orders) to memorialize how the Exchange system will handle cancel and replace orders in connection with the Exchange's technology migration to INET.⁶⁹ Currently, Exchange members can send a Cancel and Replace Order in one message, which allows the replacement order to retain the time priority of the cancelled order, subject to certain exceptions.⁷⁰ However, currently the Exchange does not apply price or other reasonability checks to the replacement order for all Cancel and Replace Orders.⁷¹ For example, the Exchange notes that currently, a Cancel and Replace Order which reduced the size of an original order from 600 to 300 contracts would not be subject to price or other reasonability checks.⁷²

⁶⁹ See id.

⁷⁰ See id. The Exchange notes that, instead of sending a Cancel and Replace Order, a Member can separately send a cancellation message and a new order, for which the Exchange would apply price or other reasonability checks, but the new order would not retain the priority of the original order. See id. This behavior will not change. See id.

⁷¹ See Notice, supra note 3, at 25833.

⁷² See id.

The Exchange now proposes to define the Cancel and Replace Order to ensure that price and other reasonability checks are applied to Cancel and Replace Orders.⁷³ The Exchange proposes to define a Cancel and Replace Order as a single message for the immediate cancellation of a previously received order and the replacement of that order with a new order. If the previously placed order is already partially filled or in its entirety, the replacement order is automatically canceled or reduced by the number of contracts that were executed. Additionally, the replacement order will retain the priority of the cancelled order, if the order posts to the order book, provided the price is not amended, size is not increased, or in the case of Reserve Orders, size is not changed. However, if the replacement portion of a Cancel and Replace Order does not satisfy the system's price or other reasonability checks the existing order will be cancelled and not replaced.⁷⁴

⁷³ See proposed MRX Rule 715, Supplementary Material .02.

⁷⁴ Price and reasonability checks that would be applied include MRX Rule 710 (Minimum Trading Increments), MRX Rule 711(c) (proposed Market Order Spread Protection) and MRX Rule 714(b)(2) (Limit Order Price Protection). See Notice, supra note 3 at 25833, n.40. The Exchange also notes that, as for other orders, the Exchange may cancel an order because it does not satisfy a format or other requirement specified in the Exchange's rules and specifications. See id.

The Exchange represents that conducting price or other reasonability checks for all Cancel and Replace Orders will validate orders against current market conditions prior to proceeding with the request to modify the order.⁷⁵ The Exchange further believes that memorializing Cancel and Replace Order handling will add transparency to the Exchange's rules and reduce the potential for investor confusion.⁷⁶

⁷⁵ See Notice, supra note 3 at 25836.

⁷⁶ See id.

The Commission notes that other exchanges with a similar order type permit an order to retain priority if only the size of the order is decremented.⁷⁷ Accordingly, the Commission believes it is appropriate for the Exchange to define Cancel and Replace Orders in the manner proposed.

⁷⁷ See id.; see Phlx Rule 1080(b)(i)(A).

J. All-Or-None Orders

The Exchange proposes to amend MRX Rule 715(c) to provide that All-Or-None Orders⁷⁸ may only be entered into the Exchange's system with a time-in-force designation of Immediate-Or-Cancel.⁷⁹ Currently, the Exchange allows users to submit All-Or-None Orders with any time-in-force designation. As proposed, an All-Or-None Order would be required to be submitted as an Immediate-Or-Cancel Order and thus will either execute in its entirety or be cancelled. Because All-Or-None Orders will either be executed or cancelled, the Exchange also proposes to remove language stating that All-Or-None Orders can be maintained in the system in Supplementary Material .02 to MRX Rule 713 and to delete Supplementary Material .04 to Rule 717, which concerns the exposure of non-marketable All-Or-None Orders.⁸⁰

⁷⁸ An All-Or-None Order is a limit or market order that is to be executed in its entirety or not at all. See MRX Rule 715(c).

⁷⁹ An Immediate-Or-Cancel Order is a limit order that is to be executed in whole or in part upon receipt, and any portion not so executed is to be treated as cancelled. See MRX Rule 715(b)(3).

⁸⁰ See Notice, supra note 3, at 25834.

The Exchange states that this change would remove uncertainty with respect to the manner in which All-Or-None Orders would be handled in the order book, because the All-Or-None Order would be canceled if it cannot be immediately executed in its entirety.⁸¹ Accordingly, the Commission believes it is appropriate for the Exchange to require that All-Or-None Orders be entered with a time-in-force designation of Immediate-Or-Cancel.

⁸¹ See Notice, supra note 3, at 25837.

K. Delay of Implementation of Directed Orders

Currently, MRX rules provide for the use of Directed Orders.⁸² The Exchange proposes to amend MRX Rule 811 (Directed Orders) to note that this functionality will not be available as of a certain date in the third quarter of 2017 to be announced in a notice. The Exchange represents that it will recommence the Directed Orders functionality on MRX within one year from the date of the filing of the proposed rule change. Otherwise, the Exchange will file a rule proposal with the Commission to remove these rules.

⁸² See MRX Rule 811.

The Exchange represents that it proposes to delay the implementation of the Directed Order functionality on MRX to provide the Exchange additional time to rebuild the required technology on the new platform.⁸³ The Exchange further represents that members have been given adequate notice of the implementation dates and that the Exchange will provide further notifications to members to ensure clarity about the delay of implementation of these functionalities.⁸⁴ The Commission believes that the proposed rule change helps ensure clarity about the delay of implementation of this functionality.

⁸³ See Notice, supra note 3, at 25836.

⁸⁴ See id.

For these reasons, the Commission believes that the proposed rule change is consistent with the Act.

IV. Conclusion

It is Therefore Ordered, pursuant to Section 19(b)(2) of the Act,⁸⁵ that the proposed rule change (SR-MRX-2017-02) be, and hereby is, approved.

⁸⁵ 15 U.S.C. 78s(b)(2).

For the Commission, by the Division of Trading and Markets, pursuant to delegated authority.⁸⁶
⁸⁶ 17 CFR 200.30-3(a)(12).
Eduardo A. Aleman,
Assistant Secretary.

[FR Doc. 2017-15994 Filed 7-28-17; 8:45 am]

BILLING CODE 8011-01-P